DEPARTMENT OF HOMELAND SECURITY

Federal Emergency Management Agency

[Docket ID FEMA-2014-0002; Internal Agency Docket No. FEMA-B-1334]

Proposed Flood Hazard Determinations for Dukes County, Massachusetts (All Jurisdictions)

AGENCY: Federal Emergency Management Agency, DHS.

ACTION: Proposed notice; withdrawal.

SUMMARY: The Federal Emergency Management Agency (FEMA) is withdrawing its proposed notice concerning proposed flood hazard determinations, which may include the addition or modification of any Base Flood Elevation, base flood depth, Special Flood Hazard Area boundary or zone designation, or regulatory floodway (herein after referred to as proposed flood hazard determinations) on the Flood Insurance Rate Maps and, where applicable, in the supporting Flood Insurance Study reports for Dukes County, Massachusetts (All Jurisdictions).

DATES: This withdrawal is effective November 10, 2014.

ADDRESSES: You may submit comments, identified by Docket No. FEMA-B-1334, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On July 22, 2013, FEMA published a proposed notice at 78 FR 43909, proposing flood hazard determinations for the Town of Aquinnah, Town of Chilmark, Town of Edgartown, Town of Gosnold, Town of Oak Bluffs, Town of Tisbury, Town of West Tisbury, and Tribe of Wampanoag of Gay Head (Aquinnah), Dukes County, Massachusetts (All Jurisdictions). FEMA is withdrawing the proposed notice.

Authority: 42 U.S.C. 4104; 44 CFR 67.4.

Dated: October 30, 2014.
Roy E. Wright,
Deputy Associate Administrator for Mitigation, Department of Homeland Security, Federal Emergency Management Agency.

[FR Doc. 2014-26619 Filed 11-7-14; 8:45 am]

BILLING CODE 9110-12-P